DEPARTMENT OF HEALTH AND HUMAN SERVICES

National Institutes of Health

National Institute of Environmental Health Sciences Strategic Planning

AGENCY: National Institutes of Health (NIH), National Institute of Environmental Health Sciences (NIEHS), Department of Health and Human Services (HHS).

ACTION: Request for comments and nominations

SUMMARY: The NIEHS is updating its strategic plan. To anticipate, meet, and set priorities for environmental health research, training, resources, and technologies, NIEHS requests input from scientists, staff, stakeholders, members of the public, and all interested parties. The goal of this strategic planning process is to define an overarching Vision Statement, Strategic Goals, and Implementation Strategies for the NIEHS. To begin the process, the institute is asking for the online submission of Visionary Ideas. In addition, the NIEHS seeks the nomination of interested individuals to participate in a Stakeholder Community Workshop to identify, discuss, and develop the draft strategic goals that will form the basis of the Strategic Plan. The current NIEHS Strategic Plan can be viewed at: http://www.niehs.nih.gov/about/od/strategicplan/strategicplan2006/index.cfm.

DATES: Submit Visionary Ideas and nominations for participation in the Community Workshop to the NIEHS online at http://strategicplan.niehs.nih.gov on or before April 30, 2011, COB (5 p.m. Pacific Time).

ADDRESSES: Visionary Ideas, other comments, and nominations for meeting participation are strongly encouraged to be submitted online at the NIEHS Strategic Planning Web site: http://www.niehs.nih.gov/about/od/strategicplan/index.cfm. They may also be submitted by e-mail to ehs-strategic-plan@niehs.nih.gov or by mail to the: Office of the Deputy Director, NIEHS/NIH/HHS, P.O. Box 12233, Maildrop B2-06, Research Triangle Park, NC 27709.

FOR FURTHER INFORMATION CONTACT: Dr. Sheila Newton, Office of Policy, Planning and Evaluation; P: 919-541-4343, e-mail: newton1@niehs.nih.gov.

SUPPLEMENTARY INFORMATION:

Background

The mission of the NIEHS is to reduce the burden of human illness and disability by understanding how the environment influences the development and progression of human disease. The NIEHS achieves its mission through multidisciplinary biomedical research programs and prevention and intervention efforts. NIEHS research is disseminated to inform evidence-based environmental health policies to prevent disease and protect health. The NIEHS also focuses on communication strategies that encompass training, education, technology transfer, and community engagement. To read more background and follow the progress of this planning process, visit the NIEHS Strategic Planning Web site at

Request for Visionary Ideas

The NIEHS seeks Visionary Ideas from staff, stakeholders, and all interested parties to inform its Strategic Planning. Visionary Ideas are thoughts on the http://strategicplan.niehs.nih.gov mission, purpose, direction, goals, leadership, and responsibilities of the Institute. Input received in response to this request will be collected online at http://strategicplan.niehs.nih.gov from March through April 2011, and may be publicly viewed and commented on at this Web site.

Request for Nomination of Community Workshop Participants

The NIEHS invites nominations of individuals to participate in a Stakeholder Community Workshop to discuss strategic planning in more detail. To nominate yourself or someone else, go to http://www.niehs.nih.gov/about/od/strategicplan/nomination/index.cf. Nominations should be submitted on or before COB (5 p.m. Pacific Time) April 30, 2011.

Dated: March 1, 2011.
Linda S. Birnbaum,
Director, National Institute of Environmental Health Sciences and National Toxicology Program.

[FR Doc. 2011-5536 Filed 3-9-11; 8:45 am]

BILLING CODE 4140-01-P